DEPARTMENT OF HEALTH AND HUMAN SERVICES

Centers for Disease Control and Prevention

[60Day-18-0278; Docket No. CDC-2017-0101]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled the National Hospital Ambulatory Medical Care Survey (NHAMCS). NHAMCS collects facility and visit information on ambulatory care services utilization in non-Federal, short stay hospitals in the United States.

DATES: CDC must receive written comments on or before January 26, 2018.

ADDRESSES: You may submit comments, identified by Docket No. CDC-2018-0101 by any of the following methods:

Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

National Hospital Ambulatory Medical Care Survey (NHAMCS) (OMB Control Number 0920-0278, Expiration Date 02/28/2018)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on “utilization of health care” in the United States. The National Hospital Ambulatory Medical Care Survey (NHAMCS) has conducted annually since 1992. NCHS is seeking OMB approval to extend this survey for an additional three years.

The target universe of the NHAMCS is in-person visits made to emergency departments (EDs) of non-Federal, short-stay hospitals (hospitals with an average length of stay of less than 30 days) that have at least six beds for inpatient use, and with a specialty of general (medical or surgical) or children's general.

NHAMCS was initiated to complement the National Ambulatory Medical Care Survey (NAMCS, OMB Control Number 0920-0234, Expiration Date 03/31/2019), which provides similar data concerning patient visits to physicians' offices. NAMCS and NHAMCS are the principal sources of data on ambulatory care provided in the United States.

NHAMCS provides a range of baseline data on the characteristics of the users and providers of hospital ambulatory medical care. Data collected include patients' demographic characteristics, reason(s) for visit, providers' diagnoses, diagnostic services, medications, and disposition. These data, together with trend data, may be used to monitor the effects of change in the health care system, for the planning of health services, improving medical education, determining health care work force needs, and assessing the health status of the population.

Starting 2018, CDC will implement the ED component of NHAMCS. However, between December 2017 and May 2018, the 2017 survey will run concurrently with the 2018 survey. This is typical with any data collection cycle: It begin in the last month of the preceding year and ends around the middle of the following year. For the 2017 data collection, CDC will collect information on all three settings (ED, OPD, and ASL). For this three-year request, CDC does not expect substantive changes or supplements for the survey.

Users of NHAMCS data include, but are not limited to, congressional offices, Federal agencies, state and local governments, schools of public health, colleges and Universities, private industry, nonprofit foundations, professional associations, clinicians, researchers, administrators, and health planners.

There are no costs to the respondents other than their time. The total estimated annualized burden hours are 1,806.

Estimated Annualized Burden Hours
Type of respondents | Form name | Number of respondents | Number of responses per respondent | Average burden per response (in hours) | Total burden (in hours)
Hospital Chief Executive Officer | Hospital Induction 2017 Data Collection | 60 | 1 | 75/60 | 75
Hospital Chief Executive Officer | Hospital Induction 2018+ Data Collection | 340 | 1 | 75/60 | 425
Ancillary Service Executive | Ambulatory Unit Induction (ED, OPD and ASL) | 810 | 1 | 15/60 | 203
Ancillary Service Executive | Ambulatory Unit Induction (ED only) | 583 | 1 | 15/60 | 146
Medical Record Clerk | Retrieving Patient Records (ED, OPD and ASL) | 396 | 144 | 1/60 | 950
Ancillary Service Executive—Reabstraction | Reabstraction Telephone Call (ED, OPD and ASL) | 29 | 1 | 5/60 | 2
Medical Record Clerk—Reabstraction | Pulling and re-filing Patient Records (ED, OPD and ASL) | 29 | 10 | 1/60 | 5
Total |  |  |  |  | 1,806

Leroy A. Richardson,
Chief, Information Collection Review Office, Office of Scientific Integrity, Office of the Associate Director for Science, Office of the Director, Centers for Disease Control and Prevention.

[FR Doc. 2017-25496 Filed 11-24-17; 8:45 am]

BILLING CODE 4163-18-P